DEPARTMENT OF ENERGY

Reinstatement of a Previously Approved Information Collection for the Weatherization Assistance Program

AGENCY: Office of Energy Efficiency and Renewable Energy, Department of Energy.

ACTION: Notice and request for comments.

SUMMARY: The U.S. Department of Energy (DOE), pursuant to the Paperwork Reduction Act of 1995, intends to reinstate a previously approved collection, with change, for three years with the Office of Management and Budget (OMB). The information collection request, Weatherization Assistance Program Sub-Programs, was previously approved on May 31, 2014, under OMB Control No. 1910-5157 and expired on May 31, 2017.

DATES: Comments regarding this collection must be received on or before January 21, 2022. If you anticipate difficulty in submitting comments within that period, contact the person listed below as soon as possible.

ADDRESSES: Written comments may be sent to Brittany Price by email to the following address: Brittany.Price@ee.doe.gov with the subject line “Weatherization Assistance Program Sub-Programs (OMB No. 1910-5157)” included in the message. Submit electronic comments in WordPerfect, Microsoft Word, PDF, or ASCII file format, and avoid the use of special characters or any form of encryption. No telefacsimiles (faxes) will be accepted. For detailed instructions on submitting comments, see section III (Submission of Comments) of this document.

Although DOE has routinely accepted public comment submissions through a variety of mechanisms, including postal mail and hand delivery/courier, the Department has found it necessary to make temporary modifications to the comment submission process in light of the ongoing Covid-19 pandemic. DOE is currently accepting only electronic submissions at this time. If a commenter finds that this change poses an undue hardship, please contact the DOE staff person listed in this notice.

FOR FURTHER INFORMATION CONTACT: Requests for additional information or copies of the information collection instrument and instructions should be directed to Brittany Price, EE-5W, U.S. Department of Energy, 1000 Independence Ave. SW, Washington, DC 20585-0121 or by email or phone at brittany.price@ee.doe.gov, 240-306-7252.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5157;

(2) Information Collection Request Title: “Weatherization Enhancement and Innovation (E&I), Sustainable Energy Resources for Consumers (SERC), and Community Scale Weatherization Pilot Grants”;

(3) Type of Review: Reinstatement, with change, of a previously approved collection for which approval has expired;

(4) Purpose: To collect information on the status of grantee activities, including but not limited to weatherized units, total people assisted with grant funds, expenditures, and results, to ensure that program funds are being used appropriately, effectively and expeditiously. All information collection proposed under these programs is necessary for their implementation, and thus necessary for the function of the Agency as a whole. The information collected will be used by program staff to track the recipients of E&I, SERC, and Community Scale activities, their progress in achieving scheduled milestones, and funds expended (including expenditure rates). The information also enables program staff to provide required or requested information on program activities to OMB, Congress and the public.

(5) Annual Estimated Number of Respondents: 66;

(6) Annual Estimated Number of Total Responses: 406;

(7) Annual Estimated Number of Burden Hours: 2336 hours;

(8) Annual Estimated Reporting and Recordkeeping Cost Burden: $105,666.32.

Statutory Authority: Statutes 42 U.S.C. 6864d and 42 U.S.C. 6872, H.R. 133, Estimate for Division N—Additional Coronavirus Response and Relief Consolidated Appropriations Act, 2021 Public Law 116-260.

Signing Authority

This document of the Department of Energy was signed on November 16, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 17, 2021.
Treena V. Garrett,
Federal Register Liaison Officer, U.S. Department of Energy.

[FR Doc. 2021-25429 Filed 11-19-21; 8:45 am]

BILLING CODE 6450-01-P